NUCLEAR REGULATORY COMMISSION

[NRC-2010-0002]

Sunshine Federal Register Notice

AGENCY HOLDING THE MEETINGS: Nuclear Regulatory Commission.

DATES: Weeks of June 14, 21, 28, July 5, 12, 19, 2010.

PLACE: Commissioners' Conference Room, 11555 Rockville Pike, Rockville, Maryland.

STATUS: Public and Closed.

Week of June 14, 2010

Thursday, June 17, 2010

8:55 a.m. Affirmation Session (Public Meeting) (Tentative)

a. Entergy Nuclear Generation Co. and Entergy Nuclear Operations, Inc. (Pilgrim Nuclear Power Station) Remaining Issues from Pilgrim Watch Petition for Review (Tentative).

b. Entergy Nuclear Generation Co. and Entergy Nuclear Operations, Inc. (Pilgrim Nuclear Power Station) Pilgrim Watch Motion for Reconsideration of CLI-10-11 (Tentative).

This meeting will be webcast live at the Web address—www.nrc.gov.

9 a.m. Briefing on Blending (Public Meeting) (Contact: George Deegan, 301-415-7834).

This meeting will be webcast live at the Web address—www.nrc.gov.

Week of June 21, 2010—Tentative

Friday, June 25, 2010

9 a.m. Briefing on Office of Nuclear Material Safety and Safeguards (NMSS)—Programs, Performance and Future Plans and Integrated Strategy on Spent Fuel Management (Public Meeting) (Contact: Hipolito Gonzalez, 301-492-3141)

This meeting will be webcast live at the Web address—www.nrc.gov.

Week of June 28, 2010—Tentative

There are no meetings scheduled for the week of June 28, 2010.

Week of July 5, 2010—Tentative

There are no meetings scheduled for the week of July 5, 2010.

Week of July 12, 2010—Tentative

There are no meetings scheduled for the week of July 12, 2010.

Week of July 19, 2010—Tentative

There are no meetings scheduled for the week of July 19, 2010.

* * * * *

* The schedule for Commission meetings is subject to change on short notice. To verify the status of meetings, call (recording)—(301) 415-1292. Contact person for more information: Rochelle Bavol, (301) 415-1651.

* * * * *

The NRC Commission Meeting Schedule can be found on the Internet at: www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. mailto:dlc@nrc.gov.mailto:aks@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: June 10, 2010.
Rochelle C. Bavol,
Policy Coordinator, Office of the Secretary.

[FR Doc. 2010-14496 Filed 6-11-10; 4:15 pm]

BILLING CODE 7590-01-P